FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

China Interocean Transport Inc. (OFF), Bldg. #75, North Hangar Road, Rm. 241A, Jamaica, NY 11430. Officers: Hon Yin Ng, Vice President (QI), Chao Dou, President. Application Type: QI Change.

Daisy Mae Concepcion V. Taleon dba DMT Global Logistics (NVO & OFF), 11291 S. Church Street, Orange, CA 92869. Officer: Daisy Mae Concepcion V. Taleon, Sole Proprietor (QI). Application Type: New NVO & OFF License.

Dulce Auto Import & Export, Inc. (OFF), 15316 SW 16 Terrace, Miami, FL 33185. Officer: Dulce Guzman, President (QI). Application Type: New OFF License.

Eagle Shipping Ltd. (NVO), 408 Elmwood Court One, Sharon Hill, PA 19079. Officers: Daniel Wackerman, President (QI), John M. Poole, Vice President. Application Type: QI Change.

John S. Kim and Paul H. Choe dba Shock Value International dba JP Global Logistics (NVO & OFF), 377 Oyster Point Blvd., Suite 18, South San Francisco, CA 94080. Officers: John S. Kim, Partner (QI), Paul H. Choe, Partner. Application Type: New NVO & OFF License.

Koch Maritime, Inc. (NVO & OFF), 2230 Energy Park Drive, St. Paul, MN 55108. Officers: Stan Sing Lau, Vice President (QI), David Koch, CEO. Application Type: QI Change.

Logistics Management Solutions, L.C. dba LMS Logistics (NVO & OFF), One City Place Drive, Suite 415, Saint Louis, MO 63141. Officers: Gregory L. Umstead, Vice President (QI), Dennis Schoemchi, President. Application Type: New NVO & OFF License.

Marine Bulk Freight Forwarding, S.A. DE C.V. (NVO), Parque de Granada No. 71, P.H. 504, Huixquilucan, Estado de Mexico 52785 Mexico. Officers: Moises S. Leon, President (QI), Moises S. Aviles, Secretary. Application Type: New NVO License.

Pinki Enterprises, Inc. (NVO), 167-25 Rockaway Blvd., Jamaica, NY 11434. Officer: Lea Molnar Dujmovic, President. Application Type: Add Trade Name Sail Container Line.

Samskip, Incorporated (NVO), Norfolk Business Center, 2551 Eltham Avenue, Suite F, Norfolk, VA 23513. Officers: Olafur Matthiasson, President (QI), Thorarinn Thorarinsson, Director.

Application Type: QI Change.

Steel Direct Shipping Line, LLC (NVO & OFF), 482 Pier T Avenue, Long Beach, CA 90802. Officers: Silvana Jones, Vice President (QI), George Adams, President. Application Type: Add OFF Service.

Unigroup Worldwide, Inc. dba Brewster Lines (NVO & OFF), One Premier Drive, Fenton, MO 63026. Officers: John M. Hiles, Assistant Secretary (QI), Patrick G. Bachler, President. Application Type: Add Trade Name UniGroup Relocation.

Worldbridge Logistics, Inc. (NVO), 22 Century Blvd., Suite 510, Nashville, TN 37214. Officers: Gary Brown, Senior Vice President (QI). Michael E. Swett, President. Application Type: QI Change.

By the Commission.
Dated: June 7, 2013.
Rachel E. Dickon,
Assistant Secretary.

[FR Doc. 2013-14024 Filed 6-12-13; 8:45 am]

BILLING CODE 6730-01-P